DEPARTMENT OF AGRICULTURE

Submission for OMB Review; Comment Request

March 11, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 15, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Table Eggs from Regions Where Newcastle Disease Exists and Exportation of Poultry and Hatching Eggs.

OMB Control Number: 0579-0328

Summary of Collection: The Animal Health Protection Act (AHPA) of 2002 is the primary Federal law governing the protection of animal health. The law gives the Secretary of Agriculture broad authority to detect, control, or eradicate pests or diseases of livestock or poultry. Veterinary Services, a program with the Animal and Plant Health Inspection Service (APHIS) is responsible for administering regulations intended to prevent the dissemination of animal disease within the United States. Regulations in title 9, Code of Federal Regulations, section 94.6 deal specifically with the importation of table eggs from certain regions that may pose a risk of introducing Newcastle Disease (ND) into the United States.

Need and Use of the Information: Although this collection applies to any region where ND is considered to exist, the United States is not currently importing table eggs from any ND-affected region. APHIS requires the following regarding imported table eggs: (1) A certificate for table eggs from ND-affected regions; and (2) a government seal issued by the veterinarian accredited by the national government who signed the certificate. APHIS will also use form VS-17-6, Export Health Certificate for Poultry or Hatching Eggs for Export. If the information were collected less frequently or not collected at all, APHIS would be unable to establish an effective defense against the incursion of ND from table eggs imported from ND-affected regions. This would cause serious economic consequences for U.S. poultry industry, which would be unable to export poultry and hatching eggs.

Description of Respondents: Business or other for-profit; Federal Government.

Number of Respondents: 201.

Frequency of Responses: Reporting: On occasion.

Total Burden Hours: 3,405.

Ruth Brown,
Departmental Information Collection Clearance Officer.

[FR Doc. 2020-05324 Filed 3-13-20; 8:45 am]

BILLING CODE 3410-34-P